DEPARTMENT OF ENERGY

Federal Energy Regulatory Commission

[Docket No. RM19-6-000]

Hydroelectric Licensing Regulations Under America's Water Infrastructure Act of 2018; Notice Inviting Federal and State Agencies and Indian Tribes To Request Participation in the Interagency Task Force Pursuant to America's Water Infrastructure Act of 2018

On October 23, 2018, the President signed America's Water Infrastructure Act of 2018 (Act) into law. Sections 3003 and 3004 of the Act require the Federal Energy Regulatory Commission to issue rules establishing expedited processes for issuing and amending licenses for qualifying facilities at existing nonpowered dams and for closed-loop pumped storage projects. The processes must seek to ensure a final decision by the Commission on an application for a license by no later than two years after receipt of a completed application. These sections also require the Commission to convene an interagency task force (ITF) to coordinate the regulatory processes associated with the authorizations required in connection with the new processes. Because of the Congressionally-mandated deadline, participation in the ITF will be time sensitive.

The Commission invites federal and state agencies and Indian tribes to request participation on the ITF. Federal and state agencies and Indian tribes who wish to participate on the ITF must file a statement of interest with the Commission by November 29, 2018. The statement of interest should include the following information: The name of the agency or tribe; the name, title, phone number, and email address of the contact person; a brief explanation of the agency's or tribe's interest in joining the ITF; and a brief description of the agency's or tribe's experience with hydropower license proceedings.

In light of the Congressionally-mandated deadline and in the interest of facilitating an efficient and effective discussion, Commission staff will select a representative group of federal agencies, state agencies, and Indian tribes to participate on the ITF. The Commission will directly notify the agencies and tribes selected to participate on the ITF. Commission staff plans to hold a coordination session for ITF participants, which is scheduled for December 12, 2018. By concurrent notice, the Commission has established a schedule in order to implement the requirements of the Act.

The Commission strongly encourages electronic filing. Please file ITF-interest statements in Docket No. RM19-6-000 using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket RM19-6-000.

For more information about this notice, please contact: Shana Wiseman, Office of Energy Projects, Federal Energy Regulatory Commission, 888 First Street NE, Washington, DC 20426, (202) 502-8736, shana.wiseman@ferc.gov.

Dated: November 13, 2018.
Nathaniel J. Davis, Sr.,
Deputy Secretary.

[FR Doc. 2018-25139 Filed 11-16-18; 8:45 am]

BILLING CODE 6717-01-P